DEPARTMENT OF VETERANS AFFAIRS

Advisory Committee on OIF/OEF Veterans and Families; Notice of Meeting

The Department of Veterans Affairs (VA) gives notice under Public Law 92-463 (Federal Advisory Committee Act) that the Advisory Committee on OIF/OEF Veterans and Families will meet on November 6-8, 2007, at the Capitol Hilton Hotel, 1001 16th Street, NW., Washington. On November 6, the session will be from 9 a.m. to 4 p.m. On November 7, the session will be from 2 p.m. to 4:30 p.m. On November 8, the session will be from 2 p.m. to 4:30 p.m. The meeting is open to the public.

The purpose of the Committee is to advise the Secretary of Veterans Affairs on the full spectrum of health care, benefits delivery and related family support issues that confront servicemembers during their transition from active duty to veteran status and during their post-service years. The Committee will focus on the concerns of all men and women with active military service in Operation Iraqi Freedom and/or Operation Enduring Freedom, but will pay particular attention to severely disabled veterans and their families.

The agenda for the November 6-8 meeting will consist primarily of Committee deliberations as it begins to draft an interim report to the Secretary of Veterans Affairs and consider its work and strategic plans for the future. The Committee will discuss its findings and observations based on previous Committee meetings, site visits, written reports and personal experiences.

The meeting will include time reserved for public comments. Individuals wishing to make oral statements must pre-register not later than November 2, 2007 by contacting Tiffany Glover by e-mail at tiffany.glover@va.gov and by submitting a 1-2 page summary of their statements for inclusion in the official record of the meeting. Oral statements by the public will be limited to five minutes each and will be received at 4 p.m.-4:30 p.m. on November 7 and 8. The public may also submit written statements for the Committee's review to the Advisory Committee on OIF/OEF Veterans and Families (008), Department of Veterans Affairs, 810 Vermont Avenue, NW., Washington, DC 20420.

Anyone seeking additional information should contact Ronald Thomas, Esq., Designated Federal Officer, at (202) 273-5182.

Dated: October 12, 2007.
By Direction of the Secretary.
E. Philip Riggin,
Committee Management Officer.

[FR Doc. 07-5161 Filed 10-18-07; 8:45 am]

BILLING CODE 8320-01-M